DEPARTMENT OF ENERGY

Federal Energy Regulatory Commission

[Docket No. RP00-371-000]

Northern Border Pipeline Company; Notice of Proposed Changes in FERC Gas Tariff

July 7, 2000.

Take notice that on June 30, 2000, Northern Border Pipeline Company (Northern Border) tendered for filing to become part of Northern Border Pipeline Company's FERC Gas Tariff, First Revised Volume No. 1, the following tariff sheets to become effective July 1, 2000:

Second Revised Sheet Number 119

First Revised Sheet Number 120

Second Revised Sheet Number 121

Second Revised Sheet Number 134

Second Revised Sheet Number 275

Second Revised Sheet Number 276

Original Sheet Number 276A

Third Revised Sheet Number 278

Original Sheet Number 278A

Second Revised Sheet Number 281

Third Revised Sheet Number 283

Second Revised Sheet Number 284

Third Revised Sheet Number 285

Northern Border proposes to revise Section 5, Right of First Refusal, under Rate Schedule T-1 and Section 27 of its General Terms and Conditions, regarding the temporary removal of the rate cap in short-term capacity releases and corresponding bidding requirements in accordance with the Commission's Order Nos. 637 and 637-A.

Northern Border states the herein proposed changes do not result in a change in Northern Border's total revenue requirement.

Northern Border states that copies of this filing have been sent to all of Northern Border's contracted shippers and interested state regulatory commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17707 Filed 7-12-00; 8:45 am]

BILLING CODE 6717-01-M